SOCIAL SECURITY ADMINISTRATION

[Docket No. SSA-2024-0017]

Privacy Act of 1974; Matching Program; Correction

AGENCY: Social Security Administration (SSA).

ACTION: Notice of a new matching program; correction.

SUMMARY: We published a new matching program in the Federal Register on October 15, 2024 concerning a matching program with the States, including tribal agencies and United States territories. That document contained an incorrect date on which the matching program would be applicable. This notice corrects that error.

FOR FURTHER INFORMATION CONTACT: Interested parties may submit general questions to Andrea Huseth, Division Director, Privacy and Disclosure Policy, Law and Policy, Social Security Administration, 6401 Security Boulevard, Baltimore, MD 21235-6401, at telephone: (410) 965-6868, or send an email to Andrea.Huseth@ssa.gov.

SUPPLEMENTARY INFORMATION: Correction.

On October 15, 2024, we published a new matching program in the Federal Register (89 FR 83071). The DATES section of the October 15, 2024 notice stated, “The matching program will be applicable on November 14, 2024, or once a minimum of 30 days after publication of this notice has elapsed, whichever is later.” This notice corrects the DATES section to state, “The matching program will be applicable on January 1, 2025, or once a minimum of 30 days after publication of this notice has elapsed, whichever is later.” This correction aligns the dates in the Federal Register with the correct dates specified in the signed agreements between SSA and the States.

Matthew Ramsey,
Head of Privacy and Disclosure Policy, Law and Policy.

[FR Doc. 2026-00814 Filed 1-15-26; 8:45 am]

BILLING CODE P